DEPARTMENT OF HOMELAND SECURITY

U.S. Citizenship and Immigration Services

[OMB Control Number 1615-New]

Agency Information Collection Activities; New Collection: Generic Clearance for the Collection of Social Media Identifier(s) on Immigration Forms

AGENCY: U.S. Citizenship and Immigration Services, Department of Homeland Security.

ACTION: 60-Day notice.

SUMMARY: The Department of Homeland Security (DHS), U.S. Citizenship and Immigration Services (USCIS) invites the general public and other Federal agencies to comment upon this proposed new collection of information. In accordance with the Paperwork Reduction Act (PRA) of 1995, the information collection notice is published in the Federal Register to obtain comments regarding the nature of the information collection, the categories of respondents, the estimated burden (i.e. the time, effort, and resources used by the respondents to respond), the estimated cost to the respondent, and the actual information collection instruments. This collection of information is necessary to comply with section 2 of the Executive order (E.O.) entitled “Protecting the United States from Foreign Terrorists and Other National Security and Public Safety Threats”, which directs implementation of uniform vetting standards and requires the collection of all information necessary for a rigorous vetting and screening of all grounds of inadmissibility or bases for the denial of immigration-related benefits. In a review of information collected for admission and benefit decisions, U.S. Citizenship and Immigration Services (USCIS) identified the need to collect social media identifiers (“handles”) and associated social media platform names from applicants to enable and help inform identity verification, national security and public safety screening, and vetting, and related inspections.

DATES: Comments are encouraged and will be accepted for 60 days until May 5, 2025.

ADDRESSES: All submissions received must include the Office of Management and Budget (OMB) Control Number 1615-NEW in the body of the letter, the agency name, and Docket ID USCIS-2025-0003. Submit comments via the Federal eRulemaking Portal website at https://www.regulations.gov under e-Docket ID number USCIS-2025-0003.

FOR FURTHER INFORMATION CONTACT: USCIS, Office of Policy and Strategy, Regulatory Coordination Division, Samantha Deshommes, Chief, telephone number (240) 721-3000 (This is not a toll-free number. Comments are not accepted via telephone message.). Please note contact information provided here is solely for questions regarding this notice. It is not for individual case status inquiries. Applicants seeking information about the status of their individual cases can check Case Status Online, available at the USCIS website at https://www.uscis.gov, or call the USCIS Contact Center at 800-375-5283 (TTY 800-767-1833).

SUPPLEMENTARY INFORMATION:

Comments

You may access the information collection instrument with instructions or additional information by visiting the Federal eRulemaking Portal site at: https://www.regulations.gov and entering USCIS-2025-0003 in the search box. Comments must be submitted in English, or an English translation must be provided. All submissions will be posted, without change, to the Federal eRulemaking Portal at https://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of https://www.regulations.gov.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Background

Executive Order 14161, “Protecting the United States from Foreign Terrorists and Other National Security and Public Safety Threats,” directs implementation of uniform vetting standards and necessitates the collection of all information necessary for a rigorous vetting and screening of all grounds of inadmissibility or bases for the denial of immigration-related benefits. See 90 FR 8451 (Jan. 20, 2025). Execution of the E.O. requires U.S. Citizenship and Immigration Services (USCIS) to collect social media identifier(s) data on immigration forms and/or within information collection systems. This data will be collected from certain populations of individuals on applications for immigration-related benefits and is necessary for the enhanced identity verification, vetting and national security screening, and inspection conducted by USCIS and required under the E.O.

This collection of information is necessary to comply with section 2 of the E.O. establishing enhanced screening and vetting standards and procedures enabling USCIS to assess an alien's eligibility to receive an immigration-related benefit from USCIS. This data collection also is used to help validate an applicant's identity and determine whether such grant of a benefit poses a security or public-safety threat to the United States.

Overview of This Information Collection

(1) Type of Information Collection: New Collection.

(2) Title of the Form/Collection: Generic Clearance for the Collection of Social Media Identifier(s) on Immigration Forms.

(3) Agency form number, if any, and the applicable component of the DHS sponsoring the collection: GC-2025-0003; USCIS.

(4) Affected public who will be asked or required to respond, as well as a brief abstract: Primary: Individuals or households. E.O. 14161, “Protecting the United States from Foreign Terrorists and Other National Security and Public Safety Threats,” directs implementation of uniform vetting standards and necessitates collection of all information necessary for a rigorous vetting and screening of all grounds of inadmissibility or bases for the denial of immigration-related benefits. Execution of the E.O. requires USCIS to collect Social Media Identifier(s) on immigration forms and/or information collection systems. This data will be collected from certain populations of individuals on applications for immigration-related benefits and is necessary for the enhanced identity verification, vetting and national security screening and, inspection conducted by USCIS and required under the E.O.

(5) An estimate of the total number of respondents and the amount of time estimated for an average respondent to respond:

• The estimated total number of respondents for the information collection N-400 is 909,700 and the estimated hour burden per response is 0.08 hour.

• The estimated total number of respondents for the information collection I-131 is 1,073,059 and the estimated hour burden per response is 0.08 hour.

• The estimated total number of respondents for the information collection I-192 is 68,050 and the estimated hour burden per response is 0.08 hour.

• The estimated total number of respondents for the information collection I-485 is 1,060,585 and the estimated hour burden per response is 0.08 hour.

• The estimated total number of respondents for the information collection I-589 is 203,379 and the estimated hour burden per response is 0.08 hour.

• The estimated total number of respondents for the information collection I-590 is 106,200 and the estimated hour burden per response is 0.08 hour.

• The estimated total number of respondents for the information collection I-730 is 13,000 and the estimated hour burden per response is 0.08 hour.

• The estimated total number of respondents for the information collection I-751 is 140,000 and the estimated hour burden per response is 0.08 hour.

• The estimated total number of respondents for the information collection I-829 is 1,010 and the estimated hour burden per response is 0.08 hour.

(6) An estimate of the total public burden (in hours) associated with the collection: The total estimated annual hour burden associated with this collection is 285,999 hours.

(7) An estimate of the total public burden (in cost) associated with the collection: The estimated total annual cost burden associated with this collection of information is $0. No additional costs to the public are anticipated due to this action. Any costs to the respondents associated with the specific form filed are captured in those approved collections.

Dated: February 26, 2025.
Jerry L Rigdon,
Acting Chief, Regulatory Coordination Division, Office of Policy and Strategy, U.S. Citizenship and Immigration Services, Department of Homeland Security.

[FR Doc. 2025-03492 Filed 3-4-25; 8:45 am]

BILLING CODE 9111-97-P